ELECTION ASSISTANCE COMMISSION

Sunshine Act Notice

AGENCY: U.S. Election Assistance Commission.

* * * * *

ACTION: Notice of Virtual Public Forum for EAC Board of Advisors.

Date and Time: Wednesday, September 9, 2009, 9 a.m. EDT through Friday, September 18, 2009, 9 p.m. EDT.

Place: EAC Board of Advisors Virtual Meeting Room at http://www.eac.gov.

Once at the main page of EAC's website, viewers should click the link to the Board of Advisors Virtual Meeting Room. The virtual meeting room will open on Wednesday, September 9, 2009, at 9 a.m. EDT and will close on Friday, September 18, 2009, at 9 p.m. EDT. The site will be available 24 hours per day during that 9-day period.

Purpose: The EAC Board of Advisors will review and provide comment on five draft chapters of the Election Management Guidelines. The draft chapters contain best practices and recommendations regarding: Building Community Partnerships; Canvassing and Certifying an Election; Communicating with the Public; Conducting a Recount, and Provisional Ballots.

The EAC Board of Advisors Virtual Meeting Room was established to enable the Board of Advisors to conduct business in an efficient manner in a public forum, including being able to review and discuss draft documents, when it is not feasible for an in-person board meeting. The Board of Advisors will not take any votes or propose any resolutions during the 9-day forum of September 9-September 18, 2009. Members will post comments about the five draft chapters of the Election Management Guidelines.

This activity is open to the public. The public may view the proceedings of this special forum by visiting the EAC Board of Advisors virtual meeting room at http://www.eac.gov at any time between Wednesday, September 9, 2009, 9 a.m. EDT and Friday, September 18, 2009, 9 p.m. EDT. The public also may view the five draft chapters of the Election Management Guidelines Alternative, which will be posted on EAC's Web site beginning September 9, 2009. The public may file written statements to the EAC Board of Advisors at boardofadvisors@eac.gov. Data on EAC's Web site is accessible to visitors with disabilities and meets the requirements of section 508 of the Rehabilitation Act.

Person to Contact for Information: Bryan Whitener, Telephone: (202) 566-3100.

Alice Miller,
Chief Operating Officer, U.S. Election Assistance Commission.

[FR Doc. E9-20567 Filed 8-21-09; 4:15 pm]

BILLING CODE 6820-KF-P